DEPARTMENT OF COMMERCE

National Oceanic and Atmospheric Administration

Agency Information Collection Activities; Submission to the Office of Management and Budget (OMB) for Review and Approval; Comment Request; West Coast Region Groundfish Trawl Fishery Electronic Monitoring Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 18, 2020, during a 60-day comment period. This notice allows for an additional 30 days for public comments.

Agency: National Oceanic & Atmospheric Administration.

Title: West Coast Region Groundfish Trawl Fishery Electronic Monitoring Program.

OMB Control Number: 0648-0785.

Form Number(s): None.

Type of Request: Regular submission (Revision and extension to an existing information collection).

Number of Respondents: 174.

Average Hours per Response:

EM service providers: Application (application form, EM service plan, submission of EM units)—5 hours; application renewals (biennial)—1 hour; EM service provider appeal—4 hours; EM service plan changes—2 hours; EM system certification—30 minutes; reports (technical assistance—20 minutes, harassment and intimidation—1 hour, compliance reports—20 minutes, catch reports—15 minutes, feedback to vessel—10 minutes, data storage—15 minutes); debrief of EM staff—2 hours 45 minutes.

Vessel owners: Initial application—30 minutes; final application (updated application, EM system certification, tentative fishing plan, vessel monitoring plan)—8 hours 40 minutes; changes to vessel monitoring plan—1 hour; appeal—4 hours; annual EM authorization renewal—30 minutes.

Vessel operators: One-time online EM training provided by NMFS 1 hour 30 minutes; federal discard logbook for each landing; hard drive submission—10 minutes.

Total Annual Burden Hours: 5,120.

Needs and Uses: The National Marine Fisheries Service (NMFS) published a final rule on June 28, 2019 (84 FR 31146), to implement an electronic monitoring (EM) program for two sectors of the limited entry trawl fishery, consistent with the Magnuson-Stevens Fishery Conservation and Management Act (MSA) and the Pacific Coast Groundfish Fishery Management Plan (FMP). The action allows catcher vessels in the Pacific whiting fishery and fixed gear vessels in the shorebased Individual Fishing Quota (IFQ) fishery to use EM in place of observers to meet the requirements of the Trawl Rationalization Program for 100-percent at-sea observer coverage. This action is necessary to increase operational flexibility and reduce monitoring costs for vessels in the trawl fishery by providing an alternative to observers.

Under this collection, some catcher vessels will have the option to use EM in place of observers to reduce total fleet monitoring costs to levels sustainable for the fleet and agency and meet the requirements for 100-pecent observer coverage at-sea. In place of an observer documenting discards onboard, captains would report estimates of their own discards on a logbook and submit them to NMFS. NMFS would use the discards reported on the logbook to debit allocations in the Vessel Accounting System (VAS) and North Pacific Database Program (NorPac). They would also install and carry and EM system to capture fishing activities at-sea. Following the trip, an analyst would review the video and report estimates of discards of allocated species to NMFS to use to audit the validity of the logbook estimates. The EM data would also be used to monitor compliance with the requirements of the catch share program. In this way, logbooks and EM systems would be used in tandem in place of observers to meet the objectives of 100-percent at-sea monitoring of the catch share program.

Vessel operators would be required to submit a logbook reporting their discards of IFQ species. NMFS would use the logbook data to debit discards of IFQ species from IFQs and cooperative allocations, and use the EM data to audit the logbook data. EM data would also be used to monitor compliance with the requirements of the catch share program. Vessel operators would be required to submit a logbook reporting their discards of IFQ species.

New requirements being added to this collection include:

EM Service Providers will be required to submit catch reports and feedback reports, and store EM data and other records.

Vessel Owners will be required to obtain services from an NMFS-permitted EM service provider to analyze and store EM data, and report it to NMFS.

Affected Public: Business or other for-profit organizations.

Frequency: Annual and periodic.

Respondent's Obligation: Mandatory.

Legal Authority: 50 CFR 660.603(b)(1) and 660.604(b)(1) in the final rule 0648-BF52.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0785.

Sheleen Dumas,
Department PRA Clearance Officer, Office of the Chief Information Officer, Commerce Department.

[FR Doc. 2020-11350 Filed 5-26-20; 8:45 am]

BILLING CODE 3510-22-P